DEPARTMENT OF TRANSPORTATION

Federal Aviation Administration

In-flight Icing/Ground De-icing International Conference

AGENCY: Federal Aviation Administration (FAA), DOT.

ACTION: Notice of conference.

SUMMARY: The FAA issues this notice to advise the public of an In-flight Icing/Ground De-icing International Conference to present information and receive comments on: (1) Aircraft de/anti-icing during ground operations; (2) In-flight icing; (3) Icing environment meteorology; (4) Rotorcraft; (5) Ice detectors and airplane performance monitors; (6) Training for in-flight icing and aircraft de/anti-icing during ground operations; and (7) Regulations and guidance material development. This notice announces the dates, times, location, and registration information for the conference.

DATES: The conference is scheduled for June 16 through June 20, 2003, starting at 1 p.m. on June 16, and 8:30 a.m. on June 17 through June 20. The conference will end at 5:30 p.m. daily, except for the last day when the conference will end at 12 p.m.

ADDRESSES: The conference will be held at the Palmer House Hilton Hotel, 17 E. Monroe Street, Chicago, Illinois 60603, USA, Telephone: (312) 726-7500, fax (312) 917-1707.

FOR FURTHER INFORMATION CONTACT: Mr. Eugene G. Hill, FAA Certification, ANM-11N, 1601 Lind Avenue, SW., Renton, Washington 98055-4058; e-mail eugene.hill@faa.gov; telephone (425) 227-1293; fax (425) 917-6590.

SUPPLEMENTARY INFORMATION: This 2003 conference is a collaborative effort of the FAA, the Joint Aviation Authorities, Transport Canada, the National Aeronautics and Space Administration Glenn Research Center, the American Helicopter Society, the Meteorological Service of Canada, the National Center for Atmospheric Research, QINETIQ, and the Society of Automotive Engineers (SAE).

The agenda for the conference includes presentations of the seven (7) topics identified in the Summary section of this notice, as well as a SAE sponsored exhibition of icing-related equipment and services on open display throughout the conference.

Persons planning to attend this conference may register at the conference or via the Internet at: http://www.sae.org/icing-deicing/. The registration fee is US $265, which includes the lunches on June 17 through June 19, and beverages during the technical session breaks.

A block of rooms is being held until May 31, at the Palmer House Hilton Hotel, 17 E. Monroe Street, Chicago, Illinois 60603. You may make reservations by calling the hotel at (312) 726-7500, and reference the SAE/FAA In-flight Icing/Ground De-icing International Conference, or by mailing or faxing (312-917-1707) a completed registration form provided at: http://www.sae.org/icing-deicing/, directly to the hotel.

Issued in Washington, DC, on May 7, 2003.
David W. Hempe,
Manager, Aircraft Engineering Division, Aircraft Certification Service.

[FR Doc. 03-11921 Filed 5-12-03; 8:45 am]

BILLING CODE 4910-13-M